DEPARTMENT OF ENERGY

Federal Energy Regulatory Commission

[Project No. 6972-033]

Ampersand Hollow Dam Hydro LLC; Notice Soliciting Applications

On April 29, 2021, Ampersand Hollow Dam Hydro LLC (Ampersand), licensee for the Hollow Dam Hydroelectric Project No. 6972, filed a pre-application document (PAD) and notice of its intent (NOI) to file an application for a subsequent license for the 1,060-kilowatt project pursuant to section 15(b)(1) of the Federal Power Act (FPA). On the same date, Ampersand filed a request to use the Commission's Traditional Licensing Process, which the Director, Division of Hydropower Licensing, approved on June 25, 2021. On June 27, 2022, Ampersand filed notice of the withdrawal of its NOI and PAD, indicating it is no longer seeking a subsequent license for the project.

The project is located on the West Branch Oswegatchie River in the town of Fowler in St. Lawrence County, New York. The principal project works consist of: (a) a 350.5-foot-long concrete gravity dam; (b) a reservoir with a surface area of 16 acres and storage volume of 220 acre-feet; (c) two vertical submersible hydraulic turbine-generator units; (d) a concrete intake-powerhouse structure; (e) a tailrace; (f) a 200-foot-long, 2.3-kilovolt (kV) transmission line; (g) a 2.4-kV generator bus; and (h) a 2.4/34.5-kV step-up transformer. Ampersand estimates the average annual generation of the project to be 3,900 megawatt-hours.

Pursuant to Rule 216(b) of the Commission's Rules of Practice and Procedure,¹ a withdrawal of a pleading is effective at the end of 15 days from the date of filing the notice of withdrawal. No motion in opposition to the notice of withdrawal has been filed, and the Commission has taken no action to disallow the withdrawal; thus, the withdrawal became effective on July 12, 2022.

¹ 18 CFR 385.216(b) (2021).

Any party interested in filing a license application for a subsequent license for a project must first file a NOI ² and PAD.³ Although the Integrated Licensing Process (ILP) is the default pre-filing process, section 5.3(b) of the Commission's regulations allows a potential license applicant to request to use alternative licensing procedures when it files its NOI.⁴

² 18 CFR 5.5 (2021).

³ 18 CFR 5.6 (2021).

⁴ 18 CFR 5.3(b) (2021).

This notice sets a deadline of 120 days from the date of this notice for interested applicants, other than the existing licensee, to file NOIs, PADs, and requests to use an alternative licensing process as discussed above.

In the event that no other applicant files an application for a license by April 30, 2024, the current licensee will be provided with written notice that no timely application for the project has been filed.⁵ Within 90 days of such written notice, the current licensee must file a schedule for the filing of a surrender application for the project.⁶

⁵ 18 CFR 16.26(a) (2021).

⁶ 18 CFR 16.26(b) (2021).

Questions concerning this notice should be directed to Claire Rozdilski, (202) 502-8259 or claire.rozdilski@ferc.gov.

Dated: July 20, 2022.
Debbie-Anne A. Reese,
Deputy Secretary.

[FR Doc. 2022-15999 Filed 7-25-22; 8:45 am]

BILLING CODE 6717-01-P